DEPARTMENT OF THE INTERIOR

Fish and Wildlife Service

[FWS-HQ-IA-2015-N071; FXIA16710900000-156-FF09A30000]

Endangered Species; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
46538B | Albert Seeno | 79 FR 65980; November 6, 2014 | January 5, 2015.
47538B | Don Byrne | 79 FR 65980; November 6, 2014 | January 5, 2015.
49584B | Ryan Ringer | 79 FR 68461; November 17, 2014 | January 5, 2015.
42412B | Randy Gisvold | 79 FR 68461; November 17, 2014 | January 5, 2015.
047058 | Space Wild Animal Farm, Inc. | 79 FR 72007; December 4, 2014 | February 11, 2015.
37451A | Mac Embury | 79 FR 72007; December 4, 2014 | February 11, 2015.
48586B | Honolulu Zoo | 79 FR 72007; December 4, 2014 | January 15, 2015.
48426B | Lee Friend | 79 FR 72007; December 4, 2014 | January 16, 2015.
49080B | Larry Johnson | 79 FR 72007; December 4, 2014 | January 15, 2015.
677660 | Toledo Zoo | 79 FR 72007; December 4, 2014 | January 27, 2015.
49174B | David L. Bahl | 77 FR 72007; December 4, 2014 | February 3, 2015.
46530B | Frank Giacalone | 77 FR 72007; December 4, 2014 | February 3, 2015.
37027B | Nicholas Anastasiou | 79 FR 76347; December 22, 2014 | January 25, 2015.
219951 | Texas Tech University, Department of Biological Sciences | 79 FR 76347; December 22, 2014 | January 25, 2015.
50855B | Smithsonian National Zoological Park | 79 FR 76347; December 22, 2014 | March 4, 2015.
49932B | Harvey Welch | 79 FR 76347; December 22, 2014 | January 23, 2015.
50619B | Lynn Hale | 79 FR 76347; December 22, 2014 | February 3, 2015.
51545B | Henry Jeans | 79 FR 76347, December 22, 2014 | March 18, 2015.
46366b | Martin Lohne | 80 FR 255; January 5, 2015 | February 5, 2015.
46122b | Edwin Rymut | 80 FR 255; January 5, 2015 | February 5, 2015.
47547b | Brent Abshire | 80 FR 255; January 5, 2015 | February 5, 2015.
54012b | Donald Chumley | 80 FR 255; January 5, 2015 | February 5, 2015.
53745b | Stanley Williams | 80 FR 255; January 5, 2015 | February 5, 2015.
54027b | Dennis Jordan | 80 FR 255; January 5, 2015 | February 5, 2015.
46302b | Maurice Holthaus | 80 FR 255; January 5, 2015 | February 5, 2015.
54296B | Pueblo Zoo | 80 FR 255; January 5, 2015 | February 5, 2015.
46358B | Nicholas Sackman | 80 FR 3249; January 22, 2015 | February 26, 2015.
43489B | Elizabeth Krottinger | 80 FR 3249; January 22, 2015 | February 26, 2015.
54323B | Tuyrner Butts | 80 FR 3249; January 22, 2015 | February 26, 2015.
51146B | Austin Nick | 80 FR 3249; January 22, 2015 | February 26, 2015.
165944 | Peter Stein | 80 FR 3249; January 22, 2015 | February 27, 2015.
48446B | William Lehrer | 80 FR 3249; January 22, 2015 | March 9, 2015.
678171 | Caldwell Zoo | 80 FR 6536; February 5, 2015 | March 26, 2015.
55130B | James DeBlasio | 80 FR 6536; February 5, 2015 | March 9, 2015.
43192B | Honolulu Zoo | 80 FR 6536; February 5, 2015 | March 10, 2015.
46740B | Fauna & Flora International, Inc. | 80 FR 6536; February 5, 2015 | April 3, 2015.
56026B | Janice Simpson | 80 FR 6536; February 5, 2015 | March 9, 2015.
42334B | Tonya Bryson | 80 FR 6536; February 5, 2015 | March 19, 2014.
53980B | Albert Seeno | 80 FR 6536; February 5, 2015 | March 23, 2015.
47211A | Don Do | 80 FR 6536; February 5, 2015 | April 2, 2015.
48053A | GTWT, LLC, dba Bang 57 Ranch | 80 FR 8896; February 19, 2015 | March 25, 2015.
56820B | Bernard Richburg | 80 FR 8896; February 19, 2015 | April 2, 2015.
55925B | Robert Bonar | 80 FR 8896; February 19, 2015 | April 2, 2015.
49585B | Leo Wright | 80 FR 8896; February 19, 2015 | April 2, 2015.
45981B | Joan Embery-Pillsbury | 80 FR 8896; February 19, 2015 | April 7, 2015.

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2015-08822 Filed 4-16-15; 8:45 am]

BILLING CODE 4310-55-P